DEPARTMENT OF VETERANS AFFAIRS

[OMB Control No. 2900-0922]

Agency Information Collection Activity: IBM Skillsbuild Training Program Application—Pilot Program

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before July 31, 2023.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0922” in any correspondence. During the comment period, comments may be viewed online through FDMS.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0922” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: White House Cyber Initiative, as supported by VA Principal Deputy Under Secretary for VA Benefits, Mr. Michael Frueh.

Title: IBM Skillsbuild Training Program Application—Pilot Program, VAF 22-10282.

OMB Control Number: 2900-0922.

Type of Review: Revision of a previously approved collection.

Abstract: The IBM SkillsBuild Program is an IBM-sponsored pilot training program administered by VA to provide free virtual Information Technology (IT) training. SkillsBuild is a free online learning platform that provides adult learners with the opportunity to gain or improve IT skills that meet the needs of employers in the High-Technology industry. VA will provide the opportunity for Veterans, Service members, spouse, children, and caregivers to access free, self-paced, virtual training and credentials in Cybersecurity and Data Analytics. This virtual training in the field of Cybersecurity and Data Analytics is an enhanced resource for Veterans and transitioning Service members who are seeking job training and credentials to pursue a career in Technology. The IBM Skillsbuild Training Program Application (Intake Form), VA Form 22-10282 will allow eligible candidates to register and apply on a first-come, first-served basis to participate in the program, and the form will be sent via email to Vettecpartner@va.gov for processing.

Affected Public: Individuals or households.

Estimated Annual Burden: 100 hours.

Estimated Average Burden Time per Respondent: 10 minutes.

Frequency of Response: Once.

Estimated Number of Respondents: 600.

By direction of the Secretary.
Maribel Aponte,
VA PRA Clearance Officer, Office of Enterprise and Integration/Data Governance Analytics, Department of Veterans Affairs.

[FR Doc. 2023-11478 Filed 5-30-23; 8:45 am]

BILLING CODE 8320-01-P